DEPARTMENT OF THE TREASURY

Customs Service

Extension of the ACS Reconciliation Prototype

AGENCY: Customs Service, Treasury.

ACTION: General notice.

SUMMARY: This document announces that the Automated Commercial System (ACS) Reconciliation Prototype is being extended indefinitely. The prototype will continue to operate in accordance with the notice published in the Federal Register on February 6, 1998, as modified by the notices published in the Federal Register on August 18, 1998; July, 21, 1999; and December 29, 1999.

ADDRESSES: Written comments regarding this notice and or applications to participate in the prototype should be addressed to the Reconciliation Team, U.S. Customs Service, 1300 Pennsylvania Ave., NW., Room 5.2A, Washington, DC 20229-0001, ATTN: Mr. John Leonard.

FOR FURTHER INFORMATION CONTACT: John Leonard: (202) 927-0915 or Sandra Chilcoat: (202) 927-0032.

SUPPLEMENTARY INFORMATION: Customs announced and explained the ACS prototype test of reconciliation in a general notice document published in the Federal Register (63 FR 6257) on February 6, 1998. Changes and clarifications to the prototype were announced in Federal Register documents published on August 18, 1998 (63 FR 44303), July 21, 1999 (64 FR 39187), and December 29, 1999 (64 FR 73121). On June 8, 2000, Customs published a notice in the Federal Register (65 FR 36505) requesting comments and evaluations regarding the prototype. Customs examination of the responses is continuing and results will be published in the Federal Register.

This document announces that the prototype, originally limited to consumption entries filed through September 30, 2000, will be extended until further notice. Once Customs determines to end the prototype, reasonable notice of the new expiration date will be published in the Federal Register. The prototype will continue to operate in accordance with the notice published in the Federal Register on February 6, 1998, as modified by the notices published in the Federal Register on August 18, 1998; July, 21, 1999; and December 29, 1999. As previously announced, applications to participate in the prototype will be accepted throughout its duration. Additional information regarding the prototype can be found at http://www.customs.gov/recon.

Dated: September 7, 2000.
Bonni G. Tischler,
Assistant Commissioner, Office of Field Operations

[FR Doc. 00-23411 Filed 9-12-00; 8:45 am]

BILLING CODE 4820-02-P